DEPARTMENT OF TRANSPORTATION

Federal Aviation Administration

Notice of Solicitation for Nominations for Appointment to the Bessie Coleman Women in Aviation (BCWA) Advisory Committee

AGENCY: Federal Aviation Administration (FAA), Department of Transportation (DOT).

ACTION: Solicitation of nominations for appointment to the BCWA Advisory Committee.

SUMMARY: FAA is publishing this notice to solicit nominations for membership on the BCWA Advisory Committee.

DATES: Nominations must be received no later than 6:00 p.m. Eastern Time on December 23, 2024. Nominations received after the above due date may be retained for evaluation for future BCWA Advisory Committee vacancies after all other nominations received by the due date have been evaluated and considered.

ADDRESSES: Nominations can be submitted electronically (by email) to BCWAAC@faa.gov. The subject line should state, “2024 BCWA Advisory Committee Nomination.” Anyone wishing to submit an application by paper may do so by contacting BCWAAC@faa.gov or by calling 202-267-5869.

FOR FURTHER INFORMATION CONTACT: Thomas W. Cuddy, Federal Aviation Administration, 800 Independence Avenue SW, Washington, DC 20591, telephone (202) 267-5869; email to BCWAAC@faa.gov.

SUPPLEMENTARY INFORMATION:

Further Instructions for Submission of Nominations

When emailing nominations as directed in the ADDRESSES section, the body of the email must contain content or attachments that address all requirements as specified in the below “Materials to Submit” section. Incomplete/partial submittals, as well as those that exceed the specified document length, may not be considered for evaluation. An email confirmation from the FAA will be sent upon receipt of all complete nominations that meet the criteria in the “Materials to Submit” section. The FAA will notify those appointed to serve on the BCWA Advisory Committee in writing.

Background

The BCWA Advisory Committee is an advisory committee established under DOT's authority as specified in section 403 of the FAA Reauthorization Act of 2024, Public Law (Pub. L.) 118-63, and in accordance with the provisions of the Federal Advisory Committee Act as amended, Public Law 92-463, 5 U.S.C. Ch. 10. The objective of the BCWA Advisory Committee is to provide independent advice and recommendations to the FAA and in response to specific taskings received directly from DOT or the FAA or approved by a majority of the voting members of the Committee. The advice, recommendations, and taskings relate to promoting the recruitment, retention, employment, education, training, career advancement, and well-being of women in the aviation industry and aviation-focused Federal civil service positions. In response to DOT or FAA requests, the BCWA Advisory Committee may provide DOT and the FAA with information that may be used for planning purposes.

This notice seeks to fill vacancies on the BCWA Advisory Committee.

Description of Duties

The BCWA Advisory Committee acts solely in an advisory capacity and does not exercise program management responsibilities. Decisions directly affecting the implementation of transportation policy will remain with the Secretary of Transportation and the FAA Administrator, as appropriate. The BCWA Advisory Committee duties include:

a. Undertaking tasks assigned only by the FAA or DOT or approved by a majority of the voting members of the Committee, without duplicating the objectives of the Air Carrier Training Aviation Rulemaking Committee.

b. Deliberating on and approving recommendations for assigned tasks in meetings open to the public.

c. Responding to ad hoc informational requests from DOT or the FAA and/or providing input to DOT or the FAA on the overall BCWA Advisory Committee structure (including structure of the subcommittees and or task groups).

Membership: The membership must be balanced in terms of points of view represented and the functions performed. The stakeholder groups represented on the BCWA Advisory Committee include the following:

(i) Aircraft manufacturers and aerospace companies.

(ii) Public and private aviation labor organizations, including collective bargaining representatives of—

(I) aviation safety inspectors and safety engineers of the FAA;

(II) air traffic controllers;

(III) certified aircraft maintenance technicians; and

(IV) commercial airline crewmembers.

(iii) General aviation operators.

(iv) Air carriers.

(v) Business aviation operators, including poweredlift operators.

(vi) Unmanned aircraft systems operators.

(vii) Aviation safety management experts.

(viii) Aviation maintenance, repair, and overhaul entities.

(ix) Airport owners, operators, and employees.

(x) Institutions of higher education (as defined in section 101 of the Higher Education Act of 1965 (20 U.S.C. 1001)), a postsecondary vocational institution (as defined in section 102(c) of the Higher Education Act of 1965 (20 U.S.C. 1002)), or a high school or secondary school (as such terms are defined in section 8101 of the Elementary and Secondary Education Act of 1965 (20 U.S.C. 7801)).

(xi) A flight school that provides flight training, as defined in part 61 of title 14, Code of Federal Regulations, or that holds a pilot school certificate under part 141 of title 14, Code of Federal Regulations.

(xii) Aviation maintenance technician schools governed under part 147 of title 14, Code of Federal Regulations.

(xiii) Engineering business associations.

(xiv) Civil Air Patrol.

(xv) Nonprofit organizations within the aviation industry.

All BCWA Advisory Committee members serve at the pleasure of the Secretary of Transportation. Membership selection will be based on materials submitted and in a manner that ensures equal opportunity for all people consistent with all Federal anti-discrimination laws that prohibit discrimination on the basis of race, color, religion, sex, gender identity, sexual orientation, national origin, disability or age. Membership solicitation will be undertaken in a manner that encourages participation by members of underrepresented and underserved communities in accordance with Executive Order 13985. The BCWA Advisory Committee will have no more than 25 voting members. Additional nonvoting members may be appointed from among officers or employees of the FAA, as well as from the Department of Education and Department of Labor. Other membership terms include:

a. The Chairperson shall serve a 2-year term. Each voting member and nonvoting member of the Committee shall be appointed for a 2-year term but can continue to serve until their replacement is chosen or they are reappointed.

b. Service without charge and without government compensation.

c. Representation of a particular interest of employment, education, experience, or affiliation with a specific aviation-related organization.

d. Ability to attend all BCWA Advisory Committee meetings (estimated at least two meetings per year), in-person or virtually.

Qualifications: Candidates must be in good public standing and bring a unique perspective that will help advance the BCWA Advisory Committee's goals to promote the recruitment, retention, employment, education, training, career advancement, and well-being of women in the aviation industry and aviation-focused Federal civil service positions. In rare circumstances, membership may be granted to uniquely qualified individuals who do not meet the previous requirement.

Materials to Submit: Candidates are required to submit, in full, the following materials to be considered for BCWA Advisory Committee membership. Failure to submit the required information may disqualify a candidate from the review process.

a. A short biography of the nominee, including professional and academic credentials.

b. A résumé or curriculum vitae, which must include relevant job experience, qualifications, as well as contact information (email, telephone, and mailing address).

c. A one-page statement describing how the candidate will benefit the BCWA Advisory Committee, considering a primary and secondary interest to which the candidate's expertise best aligns and the candidate's unique perspective that will advance the conversation.

d. A short statement describing the candidate's previous experience on Federal Advisory Committees and/or Aviation Rulemaking Committees (if any), their level of knowledge in their above stakeholder groups, and the size of their constituency they represent or are able to reach.

Natasha A. Durkins,
Executive Director, Office of Aviation Policy & Plans.

[FR Doc. 2024-27389 Filed 11-19-24; 11:15 am]

BILLING CODE 4910-13-P